DEPARTMENT OF DEFENSE

Office of the Secretary

[Docket ID DoD-2009-OS-0173]

Proposed Collection; Comment Request

AGENCY: Defense Security Service, DoD.

ACTION: Notice.

SUMMARY: In compliance with Section 3506(c)(2)(A) of the Paperwork Reduction Act of 1995, the Defense Security Service (DSS) announces a new public information collection and seeks public comments on the provision thereof. Comments are invited on: (a) Whether the proposed collection is necessary for the proper performance of the functions of the agency, including whether the information shall have practical utility; (b) the accuracy of the agency's estimate of the burden hours of the information to be collected; and (c) ways to enhance the quality, utility and clarity of the information to be collected; and (d) ways to minimize the burden of the information collection on respondents.

DATES: Consideration will be given to all comments received by January 15, 2010.

ADDRESSES: You may submit comments, identified by docket number and title, by any of the following methods:

• Federal Rule Making Portal: http://www.regulations.gov. Follow the instructions for submitting comments.

• Mail: Federal Docket Management System Office, 1160 Defense Pentagon, Room 3C843, Washington, DC 20301-1160

Instructions: All submissions received must include agency name, docket number and title for this Federal Register document. The general policy of comments and other submissions from members of the public is to make these submissions available for public viewing on the Internet at http://www.regulations.gov as they are received without change, including any personal identifiers or contract information.

FOR FURTHER INFORMATION CONTACT: To request more information on this proposed information collection or to obtain a copy of the proposal and associated collection instruments, please write to Defense Security Service, ATTN: Ms. Linda Johnston, Industrial Security Field Operations, 1340 Braddock Place, Alexandria, VA 22314, or call 703-494-5869.

Title; Associated Form; and OMB Number: Voice of Industry Survey; OMB Control Number 0704-TBD.

Needs and Uses: Executive Order 12829, “National Industrial Security Program (NISP)” Section 202 (a) stipulates that the Secretary of Defense shall serve as the Executive Agent for inspecting and monitoring the contractors, licensees, and grantees who require or will require access to or who store or will store classified information; and for determining the eligibility for access to classified information of contractors, licensees, and grantees and their respective employees. The Executive Agent has the authority to issue, after consultation with affected agencies, standard forms or other standardization that will promote the implementation of the NISP. The Cognizant Security Agency (CSA), designated by the NISPOM, is responsible for determining the frequency of Security Reviews which may be increased or decreased for sufficient reason, consistent with risk management principles. Department of Defense Directive 5105.42, “Defense Security Service,” dated May 13, 1999, delineates the mission, functions and responsibilities of DSS. DSS functions and responsibilities include the administration and implementation of the Defense portion of the NISP. This survey will provide feedback on how well DSS is doing with respect to the administration and implementation of the NISP. Participation in the survey is strictly voluntary.

Affected Public: All active and cleared businesses, or other profit and non-profit organizations under Department of Defense Security Cognizance, approved for storage of classified materials.

Annual Burden Hours: 6469.

Number of Respondents: 12,938.

Responses per Respondent: 1.

Average Burden per Response: 30 minutes.

Frequency: Annually.

SUPPLEMENTARY INFORMATION:

Summary of Information Collection

This collection of information requests the assistance of the Facility Security Officer or Senior Management Official to provide feedback as to how well DSS is doing with respect to the administration and implementation of the NISP. The survey will be distributed electronically via a web-based commercial survey tool.

Dated: October 26, 2009.
Patricia L. Toppings,
OSD Federal Register Liaison Officer, Department of Defense.

[FR Doc. E9-27372 Filed 11-13-09; 8:45 am]

BILLING CODE 5001-06-P